DEPARTMENT OF THE INTERIOR

Bureau of Land Management

[LLNVC02000 LF2200000.DD0000.LFSPGVF60000; 12-08807; MO#4500041562; TAS: 14X1125]

Notice of Temporary Restriction of Vehicle Use and Temporary Closure to Tree Cutting and Wood Harvesting on Public Land in Douglas County, NV

AGENCY: Bureau of Land Management, Interior.

ACTION: Notice.

SUMMARY: The Bureau of Land Management (BLM), as authorized under the provisions of the Federal Land Policy and Management Act of 1976 and pursuant to BLM regulations, is temporarily restricting travel by motorized vehicles to existing posted roads and two-track trails and issuing a temporary closure to wood harvesting and/or tree cutting on public land within the Topaz Ranch Estates (TRE) and Preacher fires burn areas. These areas are located south of Gardnerville, Nevada, in the Pine Nut Mountains east of U.S. Highway 395 in Douglas County, Nevada.

DATES: Effective Dates: The temporary restriction and closure of the described public use will be in effect from December 4, 2012 to December 4, 2014.

FOR FURTHER INFORMATION CONTACT: Ryan Elliott, fire planner, 775-885-6167, email: r1elliot@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A temporary restriction of cross-country vehicle travel and a temporary closure to tree cutting and wood collecting on areas burned by the TRE and Preacher fires in May and June 2012 are necessary to promote successful rehabilitation of the burn areas. The burn areas are located on public land on the west side of the Pine Nut Mountains. The affected public lands are described as follows:

Mount Diablo Meridian

TRE Fire

T. 10 N., R 22 E.,

Sec. 1, lots 2, 3, and 4;

Sec. 2, lots 1, 2, 3, and 4, SW¼NE¼, S½NW¼, N½SW¼, NW¼SE¼;

Sec. 3, lots 1 and 2, S½NE¼, S½.

T. 11 N., R. 22 E.,

Sec. 24, SE¼SW¼, S½SE¼;

Sec. 25;

Sec. 26, NE¼NE¼, S½NE¼, S½NW¼, S½;

Sec. 27, S½SW¼, NE¼SE¼, S½SE¼;

Sec. 33, E½, E½NW¼, E½SW¼;

Sec. 34, N½, NW¼SW¼, SE¼SW¼, SE¼;

Sec. 35;

Sec. 36.

T. 10 N., R. 23 E.,

Sec. 6, lots 2, 3, 4, and 5, SW¼NE¼, SE¼NW¼.

T. 11 N., R. 23 E.,

Sec. 19, lots 3 and 4, SW¼NE¼, SE¼NW¼, E½SW¼, W½SE¼, SE¼SE¼;

Sec. 20, S½SW¼;

Sec. 28, W½NW¼, W½SW¼;

Sec. 29;

Sec. 30, lots 1, 2, 3, and 4, E½, E½NW¼, E½SW¼;

Sec. 31, lots 1, 2, 3, and 4, NE¼, E½NW¼, E½SW¼;

Sec. 32, N½, N½SW¼, N½SE¼;

Sec. 33, NW¼, N½SW¼.

The area described contains 8,070.4 acres, more or less in Douglas County, Nevada.

Preacher Fire

T. 12 N., R 21 E.,

Sec. 24, S½SW¼;

Sec. 25, NW¼;

Sec. 26, N½NE¼, SW¼NE¼, NE¼NW¼, S½NW¼, SW¼, SW¼SE¼;

Sec. 35, NW¼NW¼.

The area described contains 720 acres, more or less in Douglas County, Nevada.

This temporary restriction and temporary closure order will be posted at the Carson City District Office, 5665 Morgan Mill Road, Carson City, Nevada and at primary access points on BLM land into the burn areas. Maps of the closure areas are also available at the Carson City District Office.

On July 24, 2012, the BLM signed a Decision Record for the TRE and Preacher Fires, Emergency Action, Temporary Closures Environmental Assessment (EA) to implement these restrictions and closure. The EA analyzed these actions and is available to the public on the District Web site at http://www.blm.gov/nv/st/en/fo/carson_city_field/blm_information/nepa/nepa_archives.html. Temporarily restricting vehicle use to posted roads and two-track track trails and temporarily closing the areas to wood collecting and cutting will improve post-fire recovery and rehabilitation of the TRE and Preacher fires burn areas. To meet the goals for post-fire rehabilitation, restrictions and closures need to be in effect for at least two growing seasons, ensuring sufficient regrowth of perennial plants and adequate stabilization of soils.

Motorized vehicle use within the burn areas will be restricted to existing posted roads and two-track trails. The BLM will post roads and two-track trails open to use during this period. This restriction applies to all motorized vehicles, excluding:

(1) Any emergency or law enforcement vehicle while being used for emergency or administrative purposes; and

(2) Any vehicle whose use is expressly authorized in writing by the manager, Sierra Front Field Office.

Closing the areas to wood harvesting and/or tree cutting is necessary because the BLM uses the burned trees to create erosion breaks. This restriction applies to all persons excluding:

(1) BLM personnel; and

(2) Any person who is expressly authorized in writing by the manager, Sierra Front Field Office.

If satisfactory rehabilitation is achieved prior to December 4, 2014, the temporary restriction and temporary closure will be lifted. If the rehabilitation has not met the established benchmarks for success in the TRE and Preacher fires rehabilitation, the BLM will consider reissuing a temporary order.

Penalties: Any person who fails to comply with the restriction order is subject to arrest and, upon conviction, may be fined not more than $1,000 and/or imprisonment for not more than 12 months.

Authority: 43 CFR 8364.1.

Christopher J. McAlear,
District Manager, Carson City District Office.

[FR Doc. 2012-29222 Filed 12-3-12; 8:45 am]

BILLING CODE 4310-HC-P